DEPARTMENT OF COMMERCE

International Trade Administration

[A-570-815]

Sulfanilic Acid From the People's Republic of China: Amendment of Final Results of Antidumping Duty Administrative Review

AGENCY: Import Administration, International Trade Administration, Department of Commerce.

ACTION: Notice of amendment of final results of antidumping duty administrative review.

SUMMARY: On March 13, 2000, the Department of Commerce (the Department) published the final results of its administrative review of the antidumping duty order on sulfanilic acid from the People's Republic of China covering the period August 1, 1997 through July 31, 1998 (65 FR 13366). Based on the correction of a ministerial error made in the final results, we are publishing this amendment.

EFFECTIVE DATE: April 7, 2000.

FOR FURTHER INFORMATION CONTACT: Sean Carey or Robert James, Office of AD/CVD Enforcement, Group III, Import Administration, International Trade Administration, U.S. Department of Commerce, 14th Street and Constitution Avenue, NW, Washington, DC 20230; telephone (202) 482-3964, or (202) 482-0649, respectively.

SUPPLEMENTARY INFORMATION:

Applicable Statute and Regulations

Unless otherwise indicated, all citations to the statute are references to the provisions effective January 1, 1995, the effective date of the amendments made to the Tariff Act of 1930 by the Uruguay Round Agreements Act (URAA). In addition, unless otherwise indicated, all references to the Department's regulations are to 19 CFR part 351 (1998).

Background

On March 13, 2000, the Department published the final results of its administrative review of the antidumping duty order on sulfanilic acid from the People's Republic of China (65 FR 13366). This review covers two manufacturers/exporters of the subject merchandise, Zhenxing/Mancheng (Zhenxing) and Yude/Xinyu (Yude), for the period August 1, 1997 through July 31, 1998. After publication of our final results, we received timely allegations from respondents that we had made a ministerial error in calculating the final results. No other party commented on the final results. We agree that we made a ministerial error and have corrected our calculations in accordance with section 751 (h) of the Tariff Act.

Analysis of Ministerial Error Allegations Received From Interested Parties

We received one ministerial error allegation from respondents stating that the Department neglected to revise the surrogate value for electricity in its final calculations of normal value.

As defined by section 751(h) of the Tariff Act, the term “ministerial error” includes errors “in addition, subtraction, or other arithmetic function, clerical errors resulting from inaccurate copying, duplication, or the like, and any other type of unintentional error which the [Department] considers ministerial.”

We agree with respondents that the correct surrogate value for electricity in our calculation of normal value should be the non-inflated value of 2.922 rupees per kilowatt-hour as per attachment six of the Department's Analysis Memorandum for the Final Results of the 1997/98 Administrative Review of Sulfanilic Acid from the People's Republic of China, dated March 6, 2000. In the final results, we inadvertently used a higher figure of 3.039 rupees. This type of unintentional error meets the definition of ministerial error contained in the Tariff Act. We have made the suggested correction for the amended final results.

Amended Final Results of Review

We determine that the following percentage weighted-average margins exist for the period August 1, 1997 through July 31, 1998:

Manufacturer/producer/exporter | Time period | Margin (percent)
Yude (Yude/Xinyu) Chemical Industry, Co. and Zhenxing (Zhenxing/Mancheng) Chemical Industry, Co¹ | 8/1/97-7/31/98 | 18.65
PRC Rate ². | 8/1/97-7/31/98 | 85.20
¹ Exporters Yude (Yude/Xinyu) and Zhenxing (Zhenxing/Mancheng) have been collapsed for the purposes of this administrative review. See Sulfanilic Acid from the People's Republic of China: Preliminary Results of Antidumping Administrative Review, 64 FR 48788 (September 8, 1999); Decision Memo, Affiliation/Collapsing section.
² This rate will be applied to all firms other than Yude (Yude/Xinyu) and Zhenxing (Zhenxing/Mancheng), including all firms which did not respond to our questionnaire.

The Department shall determine, and Customs shall assess, antidumping duties on all appropriate entries. In accordance with 19 CFR 351.212(b), we have calculated exporter/importer-specific assessment rates. With respect to both export price and constructed export price sales, we divided the total dumping margins for the reviewed sales by the total entered value of those reviewed sales for each importer. We will direct Customs to assess the resulting percentage margins against the entered Customs values for the subject merchandise on each of that importer's entries under the relevant order during the review period.

Amended Cash Deposit Requirements

The following amended deposit requirements will be effective upon publication of this notice of amended final results of administrative review for all shipments of sulfanilic acid from the PRC entered, or withdrawn from warehouse, for consumption on or after the publication date, as provided for by section 751(a)(2)(c) of the Act: (1) the cash deposit rate for Yude/Xinyu and Zhenxing/Mancheng will be the rate shown above; (2) the cash deposit rate for all other PRC exporters (i.e., the PRC rate) will be 85.20 percent; and (3) the cash deposit rate for non-PRC exporters of subject merchandise from the PRC will be the rate applicable to the PRC supplier of that exporter. These deposit requirements shall remain in effect until publication of the final results of the next administrative review.

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of double antidumping duties.

This notice also serves as a reminder to parties subject to administrative protective order (APO) of their responsibility concerning the return or destruction of proprietary information disclosed under APO in accordance with 19 CFR 351.305. Timely notification of the return or destruction of APO materials, or conversion to judicial protective order, is hereby requested. Failure to comply with the regulations and terms of an APO is a violation which is subject to sanction.

We are issuing and publishing this determination in accordance with sections 751(a)(1) and 777(i) of the Act.

Dated: March 31, 2000.
Robert S. LaRussa,
Assistant Secretary for Import Administration.

[FR Doc. 00-8696 Filed 4-6-00; 8:45 am]

BILLING CODE 3510-DS-P